DEPARTMENT OF ENERGY

Federal Energy Regulatory Commission

[Docket No. RP01-36-000]

Maritimes & Northeast Pipeline, L.L.C.; Notice of Proposed Changes in FERC Gas Tariff

October 13, 2000.

Take notice that on October 6, 2000, Maritimes & Northeast Pipeline, L.L.C. (Maritimes) tendered for filing as part of its FERC Gas Tariff, First Revised Volume No. 1, First Revised Sheet No. 11, to become effective on November 1, 2000.

Maritimes states that, pursuant to section 20 of the General Terms and Conditions of its FERC Gas Tariff, it is filing its Inaugural Fuel Retainage Quantity filing to revise the Fuel Retainage Percentages (FRPs) for the four calendar periods beginning November 1, 2000. Maritimes states that its projected FRPs reflect decreases of 0.50% in the winter period and 0.10% in the spring and fall shoulder periods, with no change in the summer period.

Maritimes also states that it is submitting the calculation of the fuel retainage quantity (FRQ) deferral allocation, pursuant to section 20 which provides that Maritimes will calculate surcharges or refunds designed to amortize the net monetary value of the balance in the FRQ Deferred Account at the end of the previous accumulation period. Maritimes states that for the period December 1, 1999 through July 31, 2000, the FRQ Deferred Account resulted in a net credit balance of approximately $750,000 that will be refunded to Maritimes' customers, based on the allocation of the account balance over the actual throughput during the accumulation period, exclusive of backhauls.

Maritimes states that copies of this filing were mailed to all affected customers of Maritimes and interested state commissions.

Any person desiring to be heard or to protest said filing should file a motion to intervene or a protest with the Federal Energy Regulatory Commission, 888 First Street NE., Washington, DC 20426, in accordance with Sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-26832 Filed 10-18-00; 8:45 am]

BILLING CODE 6717-01-M